DEPARTMENT OF AGRICULTURE

Request for Nominations of Members for the National Agricultural Research, Extension, Education, and Economics Advisory Board, Specialty Crop Committee, and National Genetics Advisory Council

AGENCY: Research, Education, and Economics, USDA.

ACTION: Solicitation for membership.

SUMMARY: In accordance with the Federal Advisory Committee Act, the U.S. Department of Agriculture (USDA) announces the opening of the solicitation for nominations to fill vacancies on the National Agricultural Research, Extension, Education, and Economic (NAREEE) Advisory Board and its subcommittees. There are eight vacancies on the NAREEE Advisory Board; three vacancies on the Specialty Crop Committee; six vacancies on the Citrus Disease Subcommittee; and two vacancies on the National Genetics Advisory Council.

Correction

In the Federal Register of July 20, 2018, FR Doc. No. 83, pages 34536-34537 on page one, under Date, should read as follows:

All nomination materials should be submitted in a single, complete package and received or postmarked by August 24, 2018.

Done at Washington, DC, this day of August 6, 2018.
Chavonda Jacobs-Young,
Acting Under Secretary, Research, Education, and Economics, Acting Chief Scientist.

[FR Doc. 2018-17537 Filed 8-14-18; 8:45 am]

BILLING CODE 3410-03-P